FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011290-038.

Title: International Vessel Operators Hazardous Material Association Agreement.

Parties: Aliança Navegacao e Logistica Ltda.; APL Co. PTE Ltd.; A.P. Moller-Maersk A/S; Atlantic Container Line AB; Bermuda Container Line; China Shipping Container Lines Co., Ltd.; CMA CGM, S.A.; COSCO Container Lines, Inc.; Crowley Maritime Corporation; Evergreen Marine Corp. (Taiwan) Ltd.; Hamburg-Südamerikanische Dampfschifffahrts-Gesellschaft KG; Hanjin Shipping Co., Ltd.; Hapag-Lloyd AG; Horizon Lines, LLC; Hyundai Merchant Marine Co., Ltd.; Independent Container Line Ltd.; Kawasaki Kisen Kaisha Ltd.; Marine Transport Management, Inc.; Maruba SCA; Matson Navigation Company; Mitsui O.S.K. Lines, Ltd.; National Shipping Co. of Saudi Arabia; Nippon Yusen Kaisha Line; Orient Overseas Container Line Limited; Safmarine Container Lines; Seaboard Marine Ltd.; Senator Lines GmbH; Tropical Shipping & Construction Co., Ltd.; United Arab Shipping Co. S.A.G.; Yang Ming Marine Transport Corp.; and Zim Integrated Shipping Services, Ltd.

Filing Party: Wayne R. Rohde, Esq.; Sher & Blackwell LLP; 1850 M Street, NW.; Suite 900; Washington, DC 20036.

Synopsis: The amendment reflects a change in the COSCO entity that is party to the Agreement and a future change in the Evergreen party to the Agreement. It also corrects a typographical error in the name of Hamburg Süd.

Agreement No.: 011405-021.

Title: Ocean Carrier Working Group Agreement.

Parties: Latin America Agreement; Israel Trade Conference; Trans-Atlantic Conference Agreement; Transpacific Stabilization Agreement; Middle East Indian Subcontinent Discussion Agreement; United States Australasia Discussion Agreement; Westbound Transpacific Stabilization Agreement; Middle East Indian Subcontinent Discussion Agreement; A.P. Moller-Maersk A/S; Evergreen Marine Corporation (Taiwan) Ltd.; King Ocean Service de Venezuela, S.A.; Star Shipping A/S; Tropical Shipping & Construction Company, Limited; Wallenius Wilhelmsen Logistics AS; Zim Integrated Shipping Services, Ltd.; and Hapag-Lloyd AG.

Filing Party: Wayne R. Rohde, Esq.; Sher & Blackwell LLP; 1850 M Street, NW.; Suite 900; Washington, DC 20036.

Synopsis: The amendment updates the membership of various agreement parties and reflects a future change in the name of one of the individual carrier parties.

By Order of the Federal Maritime Commission.
Dated: February 16, 2007.
Bryant L. VanBrakle,
Secretary.

[FR Doc. E7-3009 Filed 2-21-07; 8:45 am]

BILLING CODE 6730-01-P